FEDERAL COMMUNICATIONS COMMISSION

[MM Docket No. 98-204; DA 03-1046]

Interim Policy Concerning Placement of Equal Employment Opportunity Public File Report in a Broadcaster's Public File

AGENCY: Federal Communications Commission.

ACTION: Notice.

SUMMARY: In this document, the Commission gives notice of its interim policy concerning the deadline for placement of Equal Employment Opportunity public file reports in stations' public files. This document also gives notice of groups that have filed petitions for reconsideration in this matter regarding requirement modifications.

ADDRESSES: Federal Communications Commission, 445 12th Street, SW., Washington, DC 20554.

FOR FURTHER INFORMATION CONTACT: Lewis Pulley (202) 418-1456, or Roy Boyce (202) 418-1438, Policy Division, Media Bureau.

SUPPLEMENTARY INFORMATION: This is a summary of the Commission's Public Notice, MM Docketa No. 98-204, adopted and released March 31, 2003. The complete text of this Public Notice is available for inspection and copying during normal business hours in the FCC Reference Center, Room CY-A257, 445 12th Street, SW., Washington, DC and may also be purchased from the Commission's copy contractor, Qualex International, Portals II, 445 12th Street SW., Room CY-B-402, Washington, DC 20554, telephone (202) 863-2893, facsimile (202) 863-2898, or via email qualexint@aol.com.

Synopsis of Public Notice

1. By this Public Notice the Media Bureau establishes an interim policy concerning the enforcement of the requirement of the Equal Employment Opportunity (“EEO”) rule—§ 73.2080—that a broadcaster that is part of an employment unit with five or more full-time employees place information concerning its EEO efforts in its public file and on its Web site, if it has one. See § 73.2080(c)(6). Pursuant to that provision, the information is required to be placed in the station's public file on the anniversary of the date the station is due to file its renewal application. The information relates to specified EEO activities engaged in during the preceding year.

2. Petitions for reconsideration have been filed by two groups of State Broadcasters Associations urging, among other matters, that the requirement should be modified to allow a ten day grace period for the specified information to be placed in the public file because broadcasters may not have sufficient time to collect and review data concerning activities that occur shortly before the renewal filing anniversary. The Commission will address the merits of these requests in due course. We will adopt an interim enforcement policy of allowing a ten day grace period with respect to EEO public file reports due April 1, 2003. Thus, licensees that must place an EEO report in their public files on April 1, 2003, will comply with the deadline so long as the reports are placed in the public file by April 11, 2003.

3. Thereafter, until such time as the Commission acts on the petitions for reconsideration, licensees should place EEO public file reports in their public files by the due date. They may, however, base their public file reports on activity that concludes up to 10 days prior to the due date. Licensees who choose to conclude their reports prior to the day before the due date should include any reportable information occurring between their cutoff date and the due date in next year's public file report.

Federal Communications Commission.
Marlene H. Dortch,
Secretary.

[FR Doc. 03-8579 Filed 4-8-03; 8:45 am]

BILLING CODE 6712-01-P